DEPARTMENT OF HOUSING AND URBAN DEVELOPMENT

[Docket No. FR-5689-N-04]

Notice of Proposed Information Collection; Comment Request: Fellowship Placement Pilot Program

AGENCY: Office of the Assistant Secretary for Policy Development & Research, HUD.

ACTION: Notice.

SUMMARY: The proposed information collection requirement described below will be submitted to the Office of Management and Budget (OMB) for review, as required by the Paperwork Reduction Act. HUD is soliciting public comments on the subject proposal.

DATES: Comments Due Date: July 8, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Relay Service (1-800-877-8339).

FOR FURTHER INFORMATION CONTACT: Kheng Mei Tan, Office of Policy Development & Research, Department of Housing and Urban Development, 451 7th Street SW., Washington, DC 20410, telephone (202) 402-4986 (this is not a toll free number) for copies of the proposed forms and other available information.

SUPPLEMENTARY INFORMATION: HUD is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Fellowship Placement Pilot Program Evaluation.

OMB Control Number, if applicable: 2528-0272.

Description of the need for the information and proposed use: The Fellowship Placement Program places highly-skilled fellows in distressed cities to work on strategic projects and help build city capacity. The fellowship program is seeking to evaluate its program through surveys of program stakeholders.

Agency form numbers, if applicable: N/A.

Estimation of the total numbers of hours needed to prepare the information collection including number of respondents, frequency of response, and hours of response: The number of burden hours to complete a survey is 1 hour. The number of respondents is estimated to be 32 respondents. The total number of burden hours is 32 hours.

Status of the proposed information collection: This is a revision to add surveys for program evaluation.

Authority: The Paperwork Reduction Act of 1995, 44 U.S.C., Chapter 35, as amended.

Dated: May 1, 2013.
Jean Lin Pao,
General Deputy Assistant Secretary for Policy Development and Research.

[FR Doc. 2013-10867 Filed 5-6-13; 8:45 am]

BILLING CODE 4210-67-P